DEPARTMENT OF AGRICULTURE

Farm Service Agency

Information Collection: Power of Attorney

AGENCY: Farm Service Agency, USDA.

ACTION: Notice; request for comments.

SUMMARY: In accordance with the Paperwork Reduction Act of 1995, the Farm Service Agency (FSA) is seeking comments from all interested individuals and organizations on the extension with a revision of a currently approved information collection associated with the Power of Attorney. This information collection is used to support the FSA, Commodity Credit Corporation (CCC), Natural Resources Conservation Service (NRCS), Federal Crop Insurance Corporation (FCIC) and Risk Management Agency (RMA) in conducting business and accepting signatures on documents from individuals acting on behalf of other individuals or entities.

DATES: We will consider comments that we receive by August 26, 2013.

ADDRESSES: We invite you to submit comments on this notice. In your comments, include date, volume, and page number of this issue of the Federal Register. You may submit comments by any of the following methods:

• Federal eRulemaking Portal: Go to http://regulations.gov. Follow the online instructions for submitting comments.

• Mail: Rick Blackwood, Agricultural Program Specialist, USDA, FSA, Stop 0572, 1400 Independence Avenue SW., Washington, DC 20250-0572.

You may also send comments to the Desk Officer for Agriculture, Office of Information and Regulatory Affairs, Office of Management and Budget, Washington, DC 20503. Copies of the information collection may be requested by contacting Rick Blackwood at the above addresses.

FOR FURTHER INFORMATION CONTACT: Rick Blackwood, Agricultural Program Specialist, (202) 720-5422, or by email: rick.blackwood@wdc.usda.gov.

SUPPLEMENTARY INFORMATION: Title: Power of Attorney.

OMB Control Number: 0560-0190.

Expiration Date of Approval: December 31, 2013.

Type of Request: Extension with a revision.

Abstract: Individuals or entities that want to appoint another to act as an attorney-in-fact in connection with certain FSA, CCC, NRCS, FCIC, and RMA programs and related actions must complete a FSA-211, Power of Attorney form. The FSA-211 is the form that is used by a grantor to appoint another to act on the individual's or entity's behalf for certain FSA, CCC, NRCS, FCIC, and RMA programs and related actions, giving the appointee legal authority to enter into certain binding agreements on the grantor's behalf. The FSA-211 also provides FSA, CCC, NRCS, FCIC, and RMA a source to verify an individual's authority to sign and act for another in the event of errors or fraud.

The information collected on the FSA-211 is limited to grantor's name, signature and identification number, the grantee's address, and the applicable FSA, CCC, NRCS, FCIC, and RMA programs. The burden has increased by 58,681 hours due to the 1-hour travel times per respondent included and the actual numbers of respondents in this request.

Estimate of Average Time to respond: 1.25 hours (75 minutes) per response. The average travel time, which is included in the total annual burden, is estimated to be 1 hour per respondent.

Type of Respondents: Individuals or authorized representatives of entities, such as corporations, that want to appoint an attorney-in-fact to act on their behalf.

Estimated Number of Respondents: 51,585.

Estimated Number of Responses per Respondent: 1.

Estimated Number of Responses: 51,585.

Estimated Total Annual Burden on Respondents: 64,256 hours.

We are requesting comments on all aspects of this information collection to help us to:

(1) Evaluate whether the collection of information is necessary for the proper performance of the functions of FSA, including whether the information will have practical utility;

(2) Evaluate the accuracy of FSA's estimate of burden including the validity of the methodology and assumptions used;

(3) Enhance the quality, utility, and clarity of the information to be collected;

(4) Minimize the burden of the collection of information on those who are to respond, including through the use of appropriate automated, electronic, mechanical, or other technological collection techniques or other forms of information technology.

All responses to this notice, including name and addresses when provided, will be summarized and included in the request for OMB approval. All comments will also become a matter of public record.

Signed on June 18, 2013.
Juan M. Garcia,
Administrator, Farm Service Agency.

[FR Doc. 2013-15336 Filed 6-26-13; 8:45 am]

BILLING CODE 3410-05-P